FEDERAL DEPOSIT INSURANCE CORPORATION

Notice to All Interested Parties of Intent To Terminate Receiverships

Notice is hereby given that the Federal Deposit Insurance Corporation (FDIC or Receiver), as Receiver for the institutions listed below, intends to terminate its receivership for said institutions.

Notice of Intent To Terminate Receiverships
Fund | Receivership name | City | State | Date of appointment of receiver
10119 | Venture Bank | Lacey | WA | 09/11/2009
10184 | George Washington Savings Bank | Orland Park | IL | 02/19/2010
10192 | Sun American Bank | Boca Raton | FL | 03/05/2010
10195 | The Park Avenue Bank | New York | NY | 03/12/2010
10200 | Advanta Bank Corp | Draper | UT | 03/19/2010
10219 | Broadway Bank | Chicago | IL | 04/23/2010
10229 | Eurobank | San Juan | PR | 04/30/2010
10232 | 1st Pacific Bank of California | San Diego | CA | 05/07/2010
10248 | Tierone Bank | Lincoln | NE | 06/04/2010
10250 | Nevada Security Bank | Reno | NV | 06/18/2010
10254 | USA Bank | Port Chester | NY | 07/09/2010
10263 | First National Bank of the South | Spartanburg | SC | 07/16/2010
10282 | Los Padres Bank | Solvang | CA | 08/20/2010
10430 | Covenant Bank and Trust | Rock Spring | GA | 03/23/2012
10527 | Guaranty Bank | Milwaukee | MI | 05/05/2017

The liquidation of the assets for each receivership has been completed. To the extent permitted by available funds and in accordance with law, the Receiver will be making a final dividend payment to proven creditors.

Based upon the foregoing, the Receiver has determined that the continued existence of the receiverships will serve no useful purpose. Consequently, notice is given that the receiverships shall be terminated, to be effective no sooner than thirty days after the date of this notice. If any person wishes to comment concerning the termination of any of the receiverships, such comment must be made in writing, identify the receivership to which the comment pertains, and be sent within thirty days of the date of this notice to: Federal Deposit Insurance Corporation, Division of Resolutions and Receiverships, Attention: Receivership Oversight Department 34.6, 1601 Bryan Street, Dallas, TX 75201.

No comments concerning the termination of the above-mentioned receiverships will be considered which are not sent within this time frame.

(Authority: 12 U.S.C. 1819.)

Federal Deposit Insurance Corporation.
Dated at Washington, DC, on September 27, 2021.
James P. Sheesley,
Assistant Executive Secretary.

[FR Doc. 2021-21263 Filed 9-29-21; 8:45 am]

BILLING CODE 6714-01-P